DEPARTMENT OF HEALTH AND HUMAN SERVICES

Health Resources and Services Administration

National Advisory Council on Nurse Education and Practice; Notice of Meeting

In accordance with section 10(a)(2) of the Federal Advisory Committee Act (Public Law 92-463), notice is hereby given of the following meeting:

Name: National Advisory Council on Nurse Education and Practice (NACNEP).

Dates and Times: November 13, 2008, 8 a.m.-4:30 p.m. November 14, 2008, 8 a.m.-4:30 p.m.

Place: Bethesda Marriott Suites, 6711 Democracy Boulevard, Rockville, MD 20817.

Status: The meeting will be open to the public.

Agenda: Agency and Bureau administrative updates will be provided.

Purpose: The purpose of this meeting will be to address issues relating to the nursing faculty shortage and its impact on nurse education and practice. The objectives of the meeting are: (1) To analyze achievements toward meeting recommendations that have been suggested to address the faculty shortage put forth in the National Advisory Council on Nurse Education and Practice: Second Report to the Secretary of Health and Human Services and the Congress; (2) to examine strategies instituted to address the faculty shortage; (3) to address the academic preparation of nurse educators; and (4) to address faculty salaries and any barriers to increasing faculty salaries.

During this meeting, the NACNEP council members will deliberate on the content presented and formulate recommendations to the Secretary of Health and Human Services and the Congress on the impact the faculty shortage is having on nursing education and practice. Members from professional nursing, public and private organizations will present their initiatives on addressing the nursing faculty shortage. Strategies on how to prepare nursing faculty for their role will be presented. This meeting will form the basis for NACNEP's mandated Ninth Annual Report.

For Further Information Contact: Anyone interested in obtaining a roster of members, minutes of the meeting, or other relevant information can contact Nancy Douglas-Kersellius, Acting Executive Secretary, National Advisory Council on Nurse Education and Practice, Parklawn Building, Room 8C-26, 5600 Fishers Lane, Rockville, Maryland 20857, telephone (301) 443-5688. Information can also be found at the following Web site: http://bhpr.hrsa.gov/nursing/nacnep.htm.

Dated: October 21, 2008.
Alexandra Huttinger,
Director, Division of Policy Review and Coordination.

[FR Doc. E8-25568 Filed 10-24-08; 8:45 am]

BILLING CODE 4165-15-P